Title 3—

The President

Proclamation 9554 of December 14, 2016

Bill of Rights Day, 2016

By the President of the United States of America

A Proclamation

After much debate and deliberation among the Framers, the first 10 Amendments to our Constitution were written to reflect a compromise between preserving the rights of individual citizens and supporting a strong and secure Federal Government. Since its ratification on December 15, 1791, the Bill of Rights has enshrined many of our most fundamental liberties and unalienable rights—including the freedoms of speech, worship, and assembly; the rights to trial by jury and due process, and the protections from unreasonable search and seizure and cruel and unusual punishment. For 225 years, the Bill of Rights has shaped our Nation and protected our citizens, and today, in honor of all those who have worked to secure these freedoms, we strive to continue forming a more perfect Union guided by an enduring belief in these highest ideals.

As it was originally created, the Bill of Rights safeguarded personal liberties and ensured equal justice under the law for many—but not for all. In the centuries that followed its ratification, courageous Americans agitated and sacrificed to extend these rights to more people, moving us closer to ensuring opportunity and equality are not limited by one's race, sex, or circumstances. The desire and capacity to forge our own destinies have propelled us forward at every turn in history. The same principles that drove patriots to choose revolution over tyranny, a country to cast off the stains of slavery, women to reach for the ballot, and workers to organize for their rights still remind us that our freedom is intertwined with the freedom of others. If we are to ensure the sacred ideals embodied in the Bill of Rights are afforded to everyone, each generation must do what those who came before them have done and recommit to holding fast to our values and protecting these freedoms.

Two and a quarter centuries later, these 10 Constitutional Amendments remain a symbol of one of our Nation's first successful steps in our journey to uphold the rights of all citizens. On Bill of Rights Day, we celebrate the long arc of progress that transformed our Nation from a fledgling and fragile democracy to one in which civil rights are the birthright of all Americans. This progress was never inevitable, and as long as people remain willing to fight for justice, we can work to swing open more doors of opportunity and carry forward a vision of liberty and equality for generations to come.

NOW, THEREFORE, I, BARACK OBAMA, President of the United States of America, by virtue of the authority vested in me by the Constitution and the laws of the United States, do hereby proclaim December 15, 2016, as Bill of Rights Day. I call upon the people of the United States to mark this observance with appropriate ceremonies and activities.

IN WITNESS WHEREOF, I have hereunto set my hand this fourteenth day of December, in the year of our Lord two thousand sixteen, and of the Independence of the United States of America the two hundred and forty-first.

[FR Doc. 2016-30711

Filed 12-16-16; 11:15 am]

Billing code 3295-F7-P